DEPARTMENT OF VETERANS AFFAIRS

[OMB Control No. 2900-0786]

Agency Information Collection Activity: Department of Veterans Affairs (VA) Veteran Readiness and Employment (VR&E) Longitudinal Study Survey Questionnaire

AGENCY: Veterans Benefits Administration, Department of Veterans Affairs.

ACTION: Notice; correction.

SUMMARY: The Department of Veterans Affairs (VA) published a collection of information notice in the Federal Register on Tuesday, November 28, 2023, that contained an error. The 60-day Public Comment notice identified a date of when public comments should be submitted for Agency Information Collection Activity. This document corrects the notice by removing the “Agency Information Collection Activity: Department of Veterans Affairs (VA) Vocational Rehabilitation and Employment (VR&E) Longitudinal Study Survey Questionnaire” and replacing with “Agency Information Collection Activity: Department of Veterans Affairs (VA) Veteran Readiness and Employment (VR&E) Longitudinal Study Survey Questionnaire”.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0786” in any correspondence.

Correction

In FR Doc. 2023-26141, published on Tuesday, November 28, 2023, 88 FR 227, make the following corrections. On pages 83206 and 83207, replace “Agency Information Collection Activity: Department of Veterans Affairs (VA) Vocational Rehabilitation and Employment (VR&E) Longitudinal Study Survey Questionnaire” with “Agency Information Collection Activity: Department of Veterans Affairs (VA) Veteran Readiness and Employment (VR&E) Longitudinal Study Survey Questionnaire”.

By direction of the Secretary.
Maribel Aponte,
VA PRA Clearance Officer, Office of Enterprise and Integration/Data Governance Analytics, Department of Veterans Affairs.

[FR Doc. 2023-26759 Filed 12-5-23; 8:45 am]

BILLING CODE 8320-01-P